DEPARTMENT OF HOMELAND SECURITY

Federal Emergency Management Agency

[Docket ID FEMA-2022-0002; Internal Agency Docket No. FEMA-B-2241]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before September 7, 2022.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2241, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Crawford County, Ohio and Incorporated Areas
Project: 14-05-4454S Preliminary Date: March 15, 2022
City of Galion | City Hall, 301 Harding Way East, Galion, OH 44833.
Unincorporated Areas of Crawford County | County Administration Building, 112 East Mansfield Street, Bucyrus, OH 44820.
Waukesha County, Wisconsin and Incorporated Areas
Project: 13-05-3721S Preliminary Dates: January 29, 2020, April 19, 2021, and September 15, 2021
City of Brookfield | City Hall, 2000 North Calhoun Road, Brookfield, WI 53005.
City of Muskego | City Hall, W182S8200 Racine Avenue, Muskego, WI 53150.
City of New Berlin | City Hall, 3805 South Casper Drive, New Berlin, WI 53151.
City of Pewaukee | City Hall, W240N3065 Pewaukee Road, Pewaukee, WI 53072.
City of Waukesha | City Hall, 201 Delafield Street, Waukesha, WI 53188.
Unincorporated Areas of Waukesha County | Waukesha County Administration Building, 515 West Moreland Boulevard, Waukesha, WI 53188.
Village of Big Bend | Village Hall, W230S9185 Nevins Street, Big Bend, WI 53103.
Village of Dousman | Village Hall, 118 South Main Street, Dousman, WI 53118.
Village of Elm Grove | Village Hall, 13600 Juneau Boulevard, Elm Grove, WI 53122.
Village of Hartland | Village Hall, 210 Cottonwood Avenue, Hartland, WI 53029.
Village of Lannon | Village Hall, 20399 West Main Street, Lannon, WI 53046.
Village of Menomonee Falls | Village Hall, W156N8480 Pilgrim Road, Menomonee Falls, WI 53051.
Village of Mukwonago | Village Hall, 440 River Crest Court, Mukwonago, WI 53149.
Village of Pewaukee | Village Hall, 235 Hickory Street, Pewaukee, WI 53072.
Village of Sussex | Village Hall, N64W23760 Main Street, Sussex, WI 53089.
Village of Vernon | Village Hall, W249S8910 Center Drive, Vernon, WI 53103.
Village of Wales | Village Hall, 129 West Main Street, Wales, WI 53183.
Village of Waukesha | Village Hall, W250S3567 Center Road, Waukesha, WI 53189.

[FR Doc. 2022-12383 Filed 6-8-22; 8:45 am]

BILLING CODE 9110-12-P